DEPARTMENT OF ENERGY

Federal Energy Regulatory Commission

Combined Notice of Filings #1

Take notice that the Commission received the following electric corporate filings:

Docket Numbers: EC16-170-000.

Applicants: Black Oak Wind, LLC.

Description: Application of Black Oak Wind, LLC for Authorization of Transaction Pursuant to Section 203 of the Federal Power Act, and Request for Expedited Action and Privileged Treatment.

Filed Date: 8/19/16.

Accession Number: 20160819-5288.

Comments Due: 5 p.m. ET 9/9/16.

Docket Numbers: EC16-171-000.

Applicants: Union Atlantic Electricity, CPG Power Holdings LLC.

Description: Application for Authorization of Transaction Under FPA Section 203 of CPG Power Holdings LLC.

Filed Date: 8/19/16.

Accession Number: 20160819-5290.

Comments Due: 5 p.m. ET 9/9/16.

Take notice that the Commission received the following exempt wholesale generator filings:

Docket Numbers: EG16-137-000.

Applicants: Brady Interconnection, LLC.

Description: Notice of Self-Certification of Exempt Wholesale Generator Status of Brady Interconnection, LLC.

Filed Date: 8/19/16.

Accession Number: 20160819-5296.

Comments Due: 5 p.m. ET 9/9/16.

Docket Numbers: EG16-138-000.

Applicants: Pumpjack Solar I, LLC.

Description: Pumpjack Solar I, LLC submits Notice of Self-Certification as an Exempt Wholesale Generator Status.

Filed Date: 8/22/16.

Accession Number: 20160822-5120.

Comments Due: 5 p.m. ET 9/12/16.

Docket Numbers: EG16-139-000.

Applicants: Wildwood Solar I, LLC.

Description: Wildwood Solar I, LLC submits Notice of Self-Certification as an Exempt Wholesale Generator.

Filed Date: 8/22/16.

Accession Number: 20160822-5125.

Comments Due: 5 p.m. ET 9/12/16.

Take notice that the Commission received the following electric rate filings:

Docket Numbers: ER16-1614-000.

Applicants: Louisiana Generating LLC.

Description: Amendment to May 2, 2016 Request of Louisiana Generating LLC to recover costs associated with acting as a Local Balancing Authority under MISO Tariff.

Filed Date: 8/19/16.

Accession Number: 20160819-5221.

Comments Due: 5 p.m. ET 8/26/16.

Docket Numbers: ER16-2445-000.

Applicants: California Independent System Operator Corporation.

Description: § 205(d) Rate Filing: 2016-08-19 Bidding Rules and Commitment Cost Enhancements to be effective 11/30/2016.

Filed Date: 8/19/16.

Accession Number: 20160819-5235.

Comments Due: 5 p.m. ET 9/9/16.

Docket Numbers: ER16-2454-000.

Applicants: ISO New England Inc., The United Illuminating Company.

Description: § 205(d) Rate Filing: Revisions to Schedule 21-UI of ISO-NE OATT to Comply with Normalization Req. to be effective 7/1/2016.

Filed Date: 8/22/16.

Accession Number: 20160822-5147.

Comments Due: 5 p.m. ET 9/12/16.

Docket Numbers: ER16-2455-000.

Applicants: Emera Energy Services Subsidiary No. 11.

Description: Baseline eTariff Filing: Application for Market-Based Rate Authority to be effective 10/22/2016.

Filed Date: 8/22/16.

Accession Number: 20160822-5153.

Comments Due: 5 p.m. ET 9/12/16.

Docket Numbers: ER16-2456-000.

Applicants: Emera Energy Services Subsidiary No. 12.

Description: Baseline eTariff Filing: Application for Market-Based Rate Authority to be effective 10/22/2016.

Filed Date: 8/22/16.

Accession Number: 20160822-5166.

Comments Due: 5 p.m. ET 9/12/16.

Docket Numbers: ER16-2457-000.

Applicants: Emera Energy Services Subsidiary No. 13.

Description: Baseline eTariff Filing: Application for Market-Based Rate Authority to be effective 10/22/2016.

Filed Date: 8/22/16.

Accession Number: 20160822-5169.

Comments Due: 5 p.m. ET 9/12/16.

Docket Numbers: ER16-2458-000.

Applicants: Emera Energy Services Subsidiary No. 14.

Description: Baseline eTariff Filing: Application for Market-Based Rate Authority to be effective 10/22/2016.

Filed Date: 8/22/16.

Accession Number: 20160822-5171.

Comments Due: 5 p.m. ET 9/12/16.

Docket Numbers: ER16-2459-000.

Applicants: Emera Energy Services Subsidiary No. 15.

Description: Baseline eTariff Filing: Application for Market-Based Rate Authority to be effective 10/22/2016.

Filed Date: 8/22/16.

Accession Number: 20160822-5178.

Comments Due: 5 p.m. ET 9/12/16.

Docket Numbers: ER16-2460-000.

Applicants: PJM Interconnection, L.L.C.

Description: § 205(d) Rate Filing: Rev to OATT Att K-Appx sec 8.8 and OA Schedule 1 sec 8.8 DR Emergency Energy M&V to be effective 11/1/2016.

Filed Date: 8/22/16.

Accession Number: 20160822-5186.

Comments Due: 5 p.m. ET 9/12/16.

Docket Numbers: ER16-2461-000.

Applicants: Public Service Company of Oklahoma.

Description: § 205(d) Rate Filing: PSO-WFEC Bear Creek Delivery Point Agreement to be effective 7/27/2016.

Filed Date: 8/22/16.

Accession Number: 20160822-5194.

Comments Due: 5 p.m. ET 9/12/16.

Docket Numbers: ER16-2462-000.

Applicants: Oregon Clean Energy, LLC.

Description: Baseline eTariff Filing: Application for Market Based Rate to be effective 10/21/2016.

Filed Date: 8/22/16.

Accession Number: 20160822-5218.

Comments Due: 5 p.m. ET 9/12/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2016.
Kimberly D. Bose,
Secretary.

[FR Doc. 2016-20634 Filed 8-26-16; 8:45 am]

BILLING CODE 6717-01-P